DEPARTMENT OF AGRICULTURE

Food and Nutrition Service

Food Stamp Program: Research Grants to Improve Food Stamp Program Access

AGENCY: Food and Nutrition Service, USDA.

ACTION: Notice of availability of research grants to improve Food Stamp Program Access through Partnerships and New Technology.

SUMMARY: The Food and Nutrition Service, USDA, announces a program of competitively awarded grants and cooperative agreements for research that will improve the administrative effectiveness of the Food Stamp Program (FSP) in delivering nutrition related benefits. Of particular interest are efforts that will assist potentially eligible customers in accessing the FSP. The grants will support research on the effects of community partnerships to reach underserved populations such as working families, children, immigrants, elderly and able-bodied adults without dependent children. This notice summarizes the objectives, the eligibility criteria, and the application procedures for these grants.

DATES: Applications must be received on or before 3:00 pm on January 5, 2001. Applications received after 3:00 pm, January 5, 2001, will not be considered for funding.

ADDRESSES: To obtain program grant application materials, and to submit completed applications, please contact the USDA, Food and Nutrition Service, Contract Management Branch, Room 220, 3101 Park Center Drive, Alexandria, Virginia 22302, Attn: Patsy Palmer. Grant application material can also be obtained at the Department's web site at http://www.fns.usda.gov/fsp/GRANTS/ProgramAccess.HTM.

FOR FURTHER INFORMATION CONTACT: Patricia Seward, Food Stamp Program, at 703-305-2428, or via Internet mail at pat.seward@fns.usda.gov.

SUPPLEMENTARY INFORMATION:

Legislative Authority

Under section 17(a)(1) of the Food Stamp Act of 1977, (the Act), 7 U.S.C. 2026(a)(1), the Food and Nutrition Service intends to make grants for research to improve FSP access and the education of potentially eligible non-participants about the nutrition and health benefits of the FSP. The Food and Nutrition Service expects to make available at least $3,000,000 but no more than $3,500,000 for Fiscal Year 2001 to fund competitive grants for research in the form of demonstration projects. The competitive grants will be awarded to encourage research by non-food stamp governmental authorities (e.g., State/local school districts, public health clinics), cooperating nonprofit grassroots customer organizations, institutions of higher education (e.g., 1890's Colleges and Universities), foundations and other non-profit research institutes. If a joint project is awarded, the grant award will be made to the lead agency or organization. Current Food and Nutrition Service grantees may compete under the requirements of the solicitation but not for extensions of previously funded projects. This solicitation is not intended to extend or continue previously funded projects.

Description of Research Projects

Research is a systematic inquiry, including demonstration projects, into a subject—in this case, ways to facilitate participation in the Food Stamp Program among people eligible for its benefits. The Food and Nutrition Service will conduct a competition for grants for research on measures that may identify and educate food stamp eligibles not currently participating in the program—including, but not limited to, the working poor, children, immigrants, elderly and able-bodied adults without dependent children—about the nutrition benefits, eligibility requirements, and application procedures of the FSP. The Food and Nutrition Service is seeking research that will produce information on the effectiveness of FSP program delivery with special emphasis on methods used to improve access to low-income families and individuals to the nutrition benefits of the FSP. The Food and Nutrition Service will analyze the information collected and reported by grantees at the end of the project. Such research projects could include:

• Informational and educational projects about the nutrition benefits, eligibility rules, and application procedures of the program;

• Projects testing the effects of assistance with the application procedures, including eligibility pre-screening services; and,

• New approaches such as “one-stop shopping” or joint client-oriented service delivery strategies.

We expect to receive proposals at various funding levels and expect to make awards up to $300,000 each, depending upon the number and quality of the proposals received. The duration of the research projects may be up to but may not exceed 24 months, depending upon the type and complexity of the projects proposed. Successful applications will demonstrate one or more of the following characteristics:

• The feasibility for widespread replication if proven effective and efficient;

• Client-orientation research projects carried out by grassroots organizations or others with close ties to the target population groups mentioned above;

• Research designed to demonstrate joint public/private partnerships that deliver high quality customer service;

• Research that identifies critical barriers to food stamp participation among client group(s) and specific to overcome these barriers;

• Detailed information on the proposed research including research project design, staffing information, methods used, partnerships developed, timeframes, successes, and lessons learned; and,

• The capability of the subject of the research to be sustained with local resources beyond the grant period, and the transferability of the research results.

Eligibility

Applications may be submitted individually or jointly. The Food and Nutrition Service encourages project applications by non-food stamp governmental authorities (e.g., State/local school districts, public health clinics), and/or cooperating nonprofit grassroots customer organizations. Applications must contain a thorough description of how and for whom the grant funds will be used for the entire period of the grant award. Grant applicants will be required to provide substantial descriptive documentation of their partnerships and letters of commitment or memoranda of understanding from all partner agencies/organizations.

Availability of Funds

A minimum of $3,000,000 and a maximum of $3,500,000 is available in Fiscal Year 2001 from FSP funds for this program. Grant awards will be made to successful proposers in Fiscal Year 2001. Project duration may extend beyond Fiscal Year 2001, but will not extend beyond 24 months from the date of award. The grant award will be 100 percent Federal funding with no matching requirement. Grant funds are not available for the conduct of studies or evaluations, although applicants are free to draw upon existing evaluations in designing their proposals. The Food and Nutrition Service may award competitive grants or cooperative agreements under this announcement. Applicants need not specify the type of award in their proposal. The Food and Nutrition Service reserves the right to determine the type of award based on the criteria set out in 31 U.S.C. 6305. Completion of the grant does not obligate the Food and Nutrition Service to a continued relationship, either financial or technical, with the grantee.

Authority: 7 U.S.C. 2026(a)(1).

Dated: December 20, 2000.
George A. Braley,
Acting Administrator, Food and Nutrition Service.

[FR Doc. 00-32992 Filed 12-26-00; 8:45 am]

BILLING CODE 3410-30-U